INTERNATIONAL TRADE COMMISSION

[USITC SE-10-032]

Government in the Sunshine Act Meeting Notice

Agency Holding the Meeting: United States International Trade Commission.

Time and Date: December 3, 2010 at 11 a.m.

Place: Room 101, 500 E Street SW., Washington, DC 20436, Telephone: (202) 205-2000.

Status: Open to the public.

Matters to be Considered: 1. Agendas for future meetings: none.

2. Minutes.

3. Ratification List.

4. Vote in Inv. Nos. 701-TA-476 and 731-TA-1179 (Preliminary). (Multilayered Wood Flooring from China). The Commission is currently scheduled to transmit its determinations to the Secretary of Commerce on or before December 6, 2010; Commissioners' opinions are currently scheduled to be transmitted to the Secretary of Commerce on or before December 13, 2010.

5. Vote in Inv. No. 731-TA-282 (Third Review)(Petroleum Wax Candles from China). The Commission is currently scheduled to transmit its determination and Commissioners' opinions to the Secretary of Commerce on or before December 16, 2010.

6. Outstanding action jackets: None.

In accordance with Commission policy, subject matter listed above, not disposed of at the scheduled meeting, may be carried over to the agenda of the following meeting.

By order of the Commission.
Issued: November 22, 2010.
William R. Bishop,
Hearings and Meetings Coordinator.

[FR Doc. 2010-29875 Filed 11-23-10; 11:15 am]

BILLING CODE 7020-02-P